DEPARTMENT OF TRANSPORTATION

Federal Aviation Administration

14 CFR Part 39

[Docket No. FAA-2011-0624; Directorate Identifier 2010-NE-11-AD; Amendment 39-16724; AD 2011-13-01]

RIN 2120-AA64

Airworthiness Directives; Rolls-Royce plc (RR) RB211-524 Series Turbofan Engines

AGENCY: Federal Aviation Administration (FAA), DOT.

ACTION: Final rule; request for comments.

SUMMARY: We are adopting a new airworthiness directive (AD) for the products listed above. This AD results from mandatory continuing airworthiness information (MCAI) issued by an aviation authority of another country to identify and correct an unsafe condition on an aviation product. The MCAI describes the unsafe condition as:

An investigation into the loss of a TRU during landing has revealed that this incident was preceded by the detachment of the TRUs fixed structure front ring rivet lines on the rear flange. It was concluded that the loss of rivet lines was directly associated with a previous translating cowl gearbox stubshaft fracture and the subsequent repair of the fixed structure to Engine Manual repair No. FRS5887. This repair instructs the replacement of the damaged section of the structure but does not require the rivets adjacent to the repair to be replaced although latest analysis has shown that the rivets may have weakened as a result of a translating cowl gearbox stubshaft failure.

We are issuing this AD to prevent failure of the attachment rivets resulting in loss of engine structural integrity, which may result in release of the thrust reverser unit from the engine.

DATES: This AD becomes effective August 12, 2011.

We must receive comments on this AD by August 8, 2011.

The Director of the Federal Register approved the incorporation by reference of a certain publication listed in the AD as of August 12, 2011.

ADDRESSES: You may send comments by any of the following methods:

• Federal eRulemaking Portal: Go to http://www.regulations.gov and follow the instructions for sending your comments electronically.

• Mail: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

FOR FURTHER INFORMATION CONTACT: Alan Strom, Aerospace Engineer, Engine Certification Office, FAA, Engine and Propeller Directorate, 12 New England Executive Park, Burlington, MA 01803; e-mail: alan.strom@faa.gov; telephone (781) 238-7143; fax (781) 238-7199.

SUPPLEMENTARY INFORMATION:

Discussion

The European Aviation Safety Agency (EASA), which is the Technical Agent for the Member States of the European Community, has issued EASA Airworthiness Directive 2009-0253, dated November 30, 2009 (referred to after this as “the MCAI”), to correct an unsafe condition for the specified products. The MCAI states:

An investigation into the loss of a TRU during landing has revealed that this incident was preceded by the detachment of the TRUs fixed structure front ring rivet lines on the rear flange. It was concluded that the loss of rivet lines was directly associated with a previous translating cowl gearbox stubshaft fracture and the subsequent repair of the fixed structure to Engine Manual repair No. FRS5887. This repair instructs the replacement of the damaged section of the structure but does not require the rivets adjacent to the repair to be replaced although latest analysis has shown that the rivets may have weakened as a result of a translating cowl gearbox stubshaft failure.

You may obtain further information by examining the MCAI in the AD docket.

Relevant Service Information

Rolls-Royce has issued RR Alert Service Bulletin RB.211-78-AG084, Revision 5, dated February 4, 2011. The actions described in this service information are intended to correct the unsafe condition identified in the MCAI.

FAA's Determination and Requirements of This AD

This product has been approved by the aviation authority of the United Kingdom, and is approved for operation in the United States. Pursuant to our bilateral agreement with the United Kingdom, they have notified us of the unsafe condition described in the MCAI and service information referenced above. We are issuing this AD because we evaluated all information provided by EASA and determined the unsafe condition exists and is likely to exist or develop on other products of the same type design.

Differences Between the AD and the MCAI or Service Information

EASA AD 2009-0253, dated November 30, 2009, requires the following compliance times:

For engines on which the thrust reverser unit (TRU) was previously repaired using either engine manual repair No. FRS4976 or engine manual repair No. FRS5887 and FRS6669 as a result of a translating cowl gearbox stubshaft failure, the MCAI requires compliance before March 31, 2010. This AD requires compliance within 215 cycles-in-service (CIS) after the effective date of this AD.

For engines on which the TRU was previously repaired using engine manual repair No. FRS5887 only, the MCAI requires compliance before December 31, 2012. This AD requires compliance within 2,225 CIS after the effective date of this AD.

FAA's Determination of the Effective Date

Since no domestic operators use this product, notice and opportunity for public comment before issuing this AD are unnecessary. Therefore, we are adopting this regulation immediately.

Comments Invited

This AD is a final rule that involves requirements affecting flight safety, and we did not precede it by notice and opportunity for public comment. We invite you to send any written relevant data, views, or arguments about this AD. Send your comments to an address listed under the ADDRESSES section. Include “Docket No. FAA-2011-0624; Directorate Identifier 2010-NE-11-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-13-01 Rolls-Royce plc (RR): Amendment 39-16724; Docket No. FAA-2011-0624; Directorate Identifier 2010-NE-11-AD.

Effective Date

(a) This airworthiness directive (AD) becomes effective August 12, 2011.

Affected ADs

(b) None.

Applicability

(c) This AD applies to RB211-524D4-19, -524D4-B-19, -524D4-39, -524D4-B-39, -524D4X-19, -524D4X-B-19, -524H-36, -524H2-19, -524H-T-36, -524H2-T-19, -524G2-19, -524G3-19, -524G2-T-19, and -524G3-T-19 engines with thrust reverser units (TRUs) that have a part number (P/N) specified in paragraph 1.A. of RR Alert Service Bulletin (ASB) RB.211-78-AG084, Revision 5, dated February 4, 2011, installed. These engines are installed on, but not limited to, Boeing 747 series and 767 series airplanes.

Reason

(d) The EASA AD 2009-0253, dated November 30, 2009, states the following:

An investigation into the loss of a TRU during landing has revealed that this incident was preceded by the detachment of the TRUs fixed structure front ring rivet lines on the rear flange. It was concluded that the loss of rivet lines was directly associated with a previous translating cowl gearbox stubshaft fracture and the subsequent repair of the fixed structure to Engine Manual repair No. FRS5887. This repair instructs the replacement of the damaged section of the structure but does not require the rivets adjacent to the repair to be replaced although latest analysis has shown that the rivets may have weakened as a result of a translating cowl gearbox stubshaft failure.

We are issuing this AD to prevent failure of the attachment rivets resulting in loss of engine structural integrity, which may result in release of the thrust reverser unit from the engine.

(e) If no repairs were performed as a result of a stubshaft failure, no further action is necessary.

Actions and Compliance

(f) Unless already done, do the following actions:

(1) If the TRU has previously had engine manual repair No. FRS5887 and either engine manual repair No. FRS4976 or engine manual repair No. FRS6669 as a result of a translating cowl gearbox stubshaft failure, then perform the actions specified in Section 3. Accomplishment Instructions of RR ASB RB.211-78-AG084, Revision 5, dated February 4, 2011, within 215 cycles-in-service (CIS) after the effective date of this AD.

(2) If the TRU has previously only had engine manual repair No. FRS5887 as a result of a translating cowl gearbox stubshaft failure, then perform the actions specified in Section 3. Accomplishment Instructions of RR ASB RB.211-78-AG084, Revision 5, dated February 4, 2011, within 2,225 CIS after the effective date of this AD.

Previous Credit

(g) Actions specified in paragraph (f)(1) and (f)(2) of this AD that are performed using RR ASB RB.211-78-AG084, Revision 4, dated December 22, 2009, RR ASB RB.211-78-AG084, Revision 3, dated November 6, 2009, comply with paragraph (f)(1) and (f)(2) of this AD.

FAA AD Differences

(h) This AD differs from the Mandatory Continuing Airworthiness Information (MCAI) and/or service information as follows:

(1) For engines on which the TRU was previously repaired using either engine manual repair No. FRS4976 or engine manual repair No. FRS6669 and engine manual repair FRS5887 as a result of a translating cowl gearbox stubshaft failure, the MCAI requires compliance before March 31, 2010. This AD requires compliance within 215 cycles-in-service (CIS) after the effective date of this AD.

(2) For engines on which the TRU was previously repaired using engine manual repair No. FRS5887 only, the MCAI requires compliance before December 31, 2012. This AD requires compliance within 2,225 CIS after the effective date of this AD.

Other FAA AD Provisions

Alternative Methods of Compliance (AMOCs)

(i) The Manager, Engine Certification Office, FAA, has the authority to approve AMOCs for this AD, if requested using the procedures found in 14 CFR 39.19.

Related Information

(j) Refer to MCAI EASA Airworthiness Directive 2009-0253, dated November 30, 2009, for related information.

(k) Contact Alan Strom, Aerospace Engineer, Engine Certification Office, FAA, Engine and Propeller Directorate, 12 New England Executive Park, Burlington, MA 01803; e-mail: alan.strom@faa.gov; telephone (781) 238-7143; fax (781) 238-7199, for more information about this AD.

Material Incorporated by Reference

(l) You must use Rolls-Royce (RR) Alert Service Bulletin (ASB) RB.211-78-AG084, Revision 5, dated February 4, 2011, to do the actions required by this AD, unless the AD specifies otherwise.

(1) The Director of the Federal Register approved the incorporation by reference of this service information under 5 U.S.C. 552(a) and 1 CFR part 51.

(2) For service information identified in this AD, contact Rolls-Royce plc, P.O. Box 31, Derby, DE24 8BJ, United Kingdom; telephone 011 44 1332 242424; fax 011 44 1332 249936.

(3) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on June 8, 2011.
Peter A. White,
Acting Manager, Engine and Propeller Directorate, Aircraft Certification Service.

[FR Doc. 2011-16954 Filed 7-7-11; 8:45 am]

BILLING CODE 4910-13-P